DEPARTMENT OF LABOR

Office of the Secretary

Submission for OMB Review; Comment Request

September 28, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

*evaluate the accuracy of the agency's estimate of the burden of the proposed collection of information, including the validity of the methodology and assumptions used;

* enhance the quality, utility, and clarity of the information to be collected; and

* minimize the burden of the collection of information on those who are to respond, including through the use of appropriate automated, electronic, mechanical, or other technological collection techniques or other forms of information technology, e.g., permitting electronic submission of responses.

Agency: Employment and Training Administration (ETA).

Type of Review: Extension of a currently approved collection.

Title: Reporting and Performance Standards System for Migrant and Seasonal Farmworker Programs Under Title I, Section 167 of the Workforce Investment Act (WIA).

OMB Number: 1205-0425.

Affected Public: State, Local, or Tribal Government and Not-for-profit institutions.

Reporting and recordkeeping requirements | Number of respondents | Number of annual responses | Frequency | Estimated time per response (hours) | Burden hours
Plan Narrative | 53 | 53 | Annually | 20 | 1,060
Data Record | 53 | 42,250 | On occasion | 2 | 84,500
Report from Data Record | 53 | 212 | Quarterly | 1 | 212
Form ETA 9093, Budget Information Summary | 53 | 53 | Annually | 15 | 795
Form ETA 9094, Program Planning Summary | 53 | 53 | Annually | 16 | 848
Form ETA 9095, Program Status Summary | 53 | 212 | Quarterly | 7 | 1,484
Totals |  | 42,833 |  |  | 88,899

Total Annualized Capital/Startup Costs: $0.

Total Annual Costs (operating/maintaining systems or purchasing services: $0.

Description: This collection of information relates to the planning and operation of employment and training programs for Migrant and Seasonal Farmworkers under Title I, Section 167 of the Workforce Investment Act (WIA). It also contains the basis of the performance standards system for Workforce Investment Act section 167 grantees. This collection of information is authorized by 20 CFR 667.300.

Agency: Employment and Training Administration (ETA).

Type of Review: Extension of a currently approved collection.

Title: Re-employment Services Plan Narrative and Progress Report.

OMB Number: 1205-0424.

Affected Public: State, Local, or Tribal Government.

Reporting requirements | Number of respondents | Number of annual responses | Frequency | Estimated time per response (hours) | Burden hours
Annual Plan | 54 | 54 | Annually | 40 | 2,160
Progress Report | 54 | 54 | Annually | 16 | 864
Totals: |  | 108 |  |  | 3,024

Total Annualized Capital/Startup Costs (operating/maintaining systems or purchasing services): $0.

Description: ETA seeks to extend OMB approval of an annual plan narrative and one annual progress report as requirements for re-employment services allotments. The annual plan and progress report will provide necessary information to assist the Secretary in determining if proposed State Employment Security Agencies re-employment services are acceptable and whether or not the purpose of the funds was achieved. Sections 136 and 185 of the Workforce Investment Act authorize this collection of information.

Ira L. Mills,
Departmental Clearance Officer.

[FR Doc. 01-25346 Filed 10-9-01; 8:45 am]

BILLING CODE 4510-30-M